NATIONAL SCIENCE FOUNDATION

Agency Information Collection Activities: Submission for OMB Review; Comment Request

AGENCY: National Science Foundation.

ACTION: Submission for OMB Review; Comment Request.

The National Science Foundation (NSF) has submitted the following information collection requirement to OMB for review and clearance under the Paperwork Reduction Act of 1995, Public Law 104-13. This is the second notice for public comment; the first was published in the Federal Register at 78 FR 1266 and two comments were received. NSF is forwarding the proposed renewal submission to the Office of Management and Budget (OMB) for clearance simultaneously with the publication of this second notice. The full submission may be found at: http://www.reginfo.gov/public/do/PRAMain.

Comments: Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 295, Arlington, Virginia 22230 or send email to splimpto@nsf.gov. Comments regarding these information collections are best assured of having their full effect if received within 30 days of this notification. Copies of the submission(s) may be obtained by calling 703-292-7556. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: Comments: As required by 5 CFR 1320.8(d), comments on the information collection activities as part of this study were solicited through publication of a 60-Day Notice in the Federal Register on January 8, 2013, at 78 FR 1266. We received two comments, to which we here respond.

The first comment came from the Bureau of Economic Analysis (BEA). They expressed general support for the survey and requested several additional data elements to be considered for future collection. NSF is in regular contact with BEA about their data needs and the feasibility of adding questions to the HERD or FFRDC Surveys to address these needs. As always, there is a need to balance the burden on the respondents with requesting new data that will be of limited use to the general public. In recent years NSF has added several items requested by BEA to the questionnaire, where the additional detail posed no significant increase in burden for the institutions. NSF will continue to consider additional items in future years while still prioritizing respondent burden. There are no plans to incorporate these data items on the HERD or FFRDC Surveys for FY 2013.

The second comment came from the University of Rochester. They requested consideration for a modification to the survey to collect headcounts of principal investigators by academic discipline in order to allow more detailed benchmarking across academic institutions. NSF agrees this level of detail would be useful to academic institutions, and attempted to collect the personnel counts by department during the pre-testing phase of the HERD redesign. Unfortunately the effort was deemed too burdensome in addition to the other items being newly requested on the FY 2010 HERD Survey. Now that respondents have seen an overall reduction in burden for the HERD Survey, NSF will consider testing the personnel question by academic discipline during this clearance period. However, this effort will need to follow the completion of NCSES's ongoing effort to harmonize the academic disciplines across the NSF surveys. Once the fields are standardized across the surveys, the HERD Survey will need to make changes to the taxonomy of its R&D fields. After this taxonomy revision is completed, the personnel question can be revisited and revised to include totals by field if the testing proves successful.

Title: Higher Education Research and Development Survey.

OMB Approval Number: 3145-0100.

Overview of This Information Collection

The Higher Education Research and Development Survey (formerly known as the Survey of Research and Development Expenditures at Universities and Colleges) originated in fiscal year (FY) 1954 and has been conducted annually since FY 1972. The survey is the academic research and development component of the NSF statistical program that seeks to provide a “central clearinghouse for the collection, interpretation, and analysis of data on the availability of, and the current and projected need for, scientific and technical resources in the United States, and to provide a source of information for policy formulation by other agencies of the federal government,” as mandated by the America COMPETES Reauthorization Act of 2010 § 505, codified in the National Science Foundation Act of 1950, as amended. In recent years, NSF redesigned and expanded the survey to better reflect the current state of academic R&D. The redesigned survey was renamed the Higher Education R&D Survey and pilot-tested with a random sample of 40 institutions during the FY 2009 survey cycle. The revised survey began for all institutions with the FY 2010 cycle.

Use of the Information: The proposed project will continue the annual survey cycle for three years. The FY 2013 Higher Education R&D Survey will be administered to an expected minimum of 660 institutions. In addition, a shorter version of the survey asking for R&D expenditures by source of funding and broad field will be sent to approximately 325 institutions spending under $1 million on R&D in their previous fiscal year. Finally, a survey requesting R&D expenditures by source of funds, cost categories (salaries, indirect costs, equipment, etc.), and character of work (basic research, applied research, or development) will be administered to the 39 Federally Funded Research and Development Centers.

The Higher Education R&D Survey will provide continuity of statistics on R&D expenditures by source of funding and field of research, with separate data requested on current fund expenditures for research equipment by field. Further breakdowns are collected on funds passed through to subrecipients and funds received as a subrecipient, and on R&D expenditures by field from specific federal agency sources. As of FY 2010, the survey also requests total R&D expenditures funded from foreign sources, R&D within an institution's medical school, clinical trial expenditures, R&D by type of funding mechanism (contracts vs. grants), R&D funded by the American Recovery and Reinvestment Act of 2009, and R&D by cost category (salaries, equipment, software, etc.). The survey also requests headcounts of principal investigators and other personnel paid from R&D funds, as well as a separate count of postdocs working on R&D.

Data are published in NSF's annual publication series Higher Education Research and Development and are available electronically on the World Wide Web. The survey is a fully automated Web data collection effort and is handled primarily by administrators in university sponsored programs and accounting offices. To minimize burden, institutions are provided with an abundance of guidance and resources on the Web, and are able to respond via a downloadable excel spreadsheet if desired. Each institution's record is preloaded with the 2 previous years of comparable data that facilitate editing and trend checking. Response to this voluntary survey has exceeded 95 percent each year.

The average burden report for the FY 2011 survey was 50 hours for institutions reporting over $1 million in R&D expenditures and 14 hours for those reporting less than $1 million. The burden estimate for the FFRDC survey is 6 hours.

Dated: June 20, 2013.
Suzanne H. Plimpton,
Reports Clearance Officer, National Science Foundation.

[FR Doc. 2013-15116 Filed 6-24-13; 8:45 am]

BILLING CODE 7555-01-P